DEPARTMENT OF AGRICULTURE

Animal and Plant Health Inspection Service

[Docket No. APHIS-2010-0003]

Notice of Decision to Issue Permits for the Importation of Fresh Male Summer Squash Flowers From Israel Into the Continental United States

AGENCY: Animal and Plant Health Inspection Service, USDA.

ACTION: Notice.

SUMMARY: We are advising the public of our decision to begin issuing permits for the importation into the continental United States of fresh male summer squash flowers from Israel. Based on the findings of a pest risk analysis, which we made available to the public for review and comment through a previous notice, we believe that the application of one or more designated phytosanitary measures will be sufficient to mitigate the risks of introducing or disseminating plant pests or noxious weeds via the importation of fresh male summer squash flowers from Israel.

EFFECTIVE DATE: May 25, 2010.

FOR FURTHER INFORMATION CONTACT: Ms. Donna L. West, Senior Import Specialist, Regulatory Coordination and Compliance, PPQ, APHIS, 4700 River Road Unit 133, Riverdale, MD 20737; (301) 734-0627.

SUPPLEMENTARY INFORMATION:

Background

Under the regulations in ‘‘Subpart—Fruits and Vegetables’’ (7 CFR 319.56-1 through 319.56-50, referred to below as the regulations), the Animal and Plant Health Inspection Service (APHIS) of the U.S. Department of Agriculture prohibits or restricts the importation of fruits and vegetables into the United States from certain parts of the world to prevent plant pests from being introduced into and spreading within the United States. Under that process, APHIS may publish a notice in the Federal Register announcing the availability of a pest risk analysis that evaluates the risks associated with the importation of a particular fruit or vegetable. Following the close of the 60-day comment period, APHIS may begin issuing permits for importation of the fruit or vegetable subject to the risk-mitigation measures identified in the pest risk analysis if: (1) No comments were received on the pest risk analysis; (2) the comments on the pest risk analysis revealed that no changes to the pest risk analysis were necessary; or (3) changes to the pest risk analysis were made in response to public comments, but the changes did not affect the overall conclusions of the analysis and the Administrator’s determination of risk.

In accordance with that process, we published a notice¹ in the Federal Register on February 9, 2010 (75 FR 6346, Docket No. APHIS-2010-0003) in which we announced the availability, for review and comment, of a pest risk analysis evaluating the risks associated with the importation into the continental United States of fresh male summer squash flowers from Israel. We solicited comments on the notice for 60 days ending on April 12, 2010. We received one comment during that time. The commenter wrote in support of allowing the importation of fresh male summer squash flowers from Israel into the continental United States.

¹ To view the notice and the pest risk analysis, go to (http://www.regulations.gov/fdmspublic/component/main?main=DocketDetail&d=APHIS-2010-0003).

Therefore, in accordance with the regulations in § 319.56-4(c)(2)(ii), we are announcing our decision to begin issuing permits for the importation into the continental United States of fresh male summer squash flowers from Israel provided that each commercial consignment of the squash flowers is accompanied by a phytosanitary certificate stating that the consignment has been inspected and found free of Helicoverpa armigera and Scirtothrips dorsalis and that each consignment is subject to inspection at the port of entry.

These conditions will be listed in the Fruits and Vegetables Import Requirements database (available at (http://www.aphis.usda.gov/favir)) . In addition to these specific measures, fresh male summer squash flowers from Israel will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 19th day of May 2010.

Kevin Shea
Acting Administrator, Animal and Plant Health Inspection Service.

[FR Doc. 2010-12532 Filed 5-24-10; 10:03 am]

BILLING CODE 3410-34-S